DEPARTMENT OF TRANSPORTATION

Federal Aviation Administration

[Docket No. FAA-2022-0409]

Agency Information Collection Activities: Requests for Comments; Clearance of a Renewed Approval of Information Collection: Part 60—Flight Simulation Device Initial and Continuing Qualification and Use

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on April 5, 2022. The collection involves requirements necessary to ensure safety-of-flight by ensuring that complete and adequate training, testing, checking, and experience is obtained and maintained by those who operate under certain parts of FAA's regulations and use flight simulation in lieu of aircraft for these functions.

DATES: Written comments should be submitted December 5, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sandra L. Ray by email at: Sandra.ray@faa.gov; phone: 412-329-3088.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0680.

Title: Part 60—Flight Simulation Device Initial and Continuing Qualification and Use.

Form Numbers: T001A, T002, T004, T011, T011-FD2, T012, T023, T024, T025, T068, T069.

Type of Review: Renewal of an information collection.

Background: The Federal Register Notice with a 60-day comment period soliciting comments on the following collection of information was published on April 5, 2022 (87 FR 19727). Title 49 U.S.C., Section 44702 empowers and requires the Secretary of Transportation to issue operating certificates and to establish minimum safety standards for the operation of air carriers and those to whom such certificates are issued. Also, Title 49 U.S.C., Section 44701 empowers and requires the Administrator of the Federal Aviation Administration (FAA) to prescribe standards applicable to the accomplishment of the mission of the FAA.

Sponsors who wish to maintain certified training centers are mandated to report to this collection. This collection is necessary to ensure that those who must comply with Title 14 CFR part 61, part 63, part 91, part 121, part 135, part 141, and part 142 are able to provide adequate crewmember training and qualification. This collection also helps to ensure safety-of-flight by ensuring those who operate under these parts of the regulation and use flight simulation in lieu of aircraft for these functions, receive and maintain complete and adequate training, testing, checking, and experience. The FAA will use the information it collects and reviews to ensure compliance and adherence to regulations and, where necessary, to take enforcement action on violators of the regulations.

Respondents: 66 Flight Simulation Device Operators.

Frequency: Annually.

Estimated Average Burden per Response: Varies per Requirement.

Estimated Total Annual Burden: 88,541.5 Hours.

Issued in Washington, DC, on October 31, 2022.
Sandra L. Ray,
Aviation Safety Inspector, AFS-200.

[FR Doc. 2022-23904 Filed 11-2-22; 8:45 am]

BILLING CODE 4910-13-P